DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS); Full Committee Meeting.

Time and Date:

September 16, 2015; 9:00 a.m.-5:30 p.m. EST.

September 17, 2015; 8:30 a.m.-12:00 p.m. EST.

Place: U.S. Department of Health and Human Services, Centers for Disease Control and Prevention, National Center for Health Statistics, 3311 Toledo Road, Auditorium A and B, Hyattsville, Maryland 20782, (301) 458-4524.

Status: Open.

Purpose: The purpose of this meeting is to review NCVHS Status of Activities, outline remaining objectives and deliverables for 2015 and engage in strategic planning for the next phase of Committee work. The Committee will review and coordinate ongoing efforts being carried out by Subcommittees and implementing its ACA-designated Review Committee. Additional topics will include one action item for approval: a letter on § 1179 of the HIPAA statute; and a presentation on the IOM Report “Vital Signs: Core Metrics for Health and Health Care Progress.” The Working Group on HHS Data Access and Use will continue strategic discussions on Building a Framework for Guiding Principles for Data Access and Use.

The times shown above are for the full Committee meeting. Subcommittee issues will be included as part of the Full Committee schedule.

Contact Person for More Information: Substantive program information may be obtained from Rebecca Hines, Acting Executive Secretary, NCVHS, National Center for Health Statistics, Centers for Disease Control and Prevention, 3311 Toledo Road, Room 6316, Hyattsville, Maryland 20782, telephone (301) 458-4715. Summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: August 24, 2015.
James Scanlon,
Deputy Assistant Secretary for Planning and Evaluation (Science and Data Policy), Office of the Assistant Secretary for Planning and Evaluation.

[FR Doc. 2015-21328 Filed 8-27-15; 8:45 am]

BILLING CODE 4151-05-P